DEPARTMENT OF TRANSPORTATION

Federal Highway Administration

Uniform Relocation and Real Property Acquisition for Federal and Federally-Assisted Programs; Fixed Payment for Moving Expenses; Residential Moves

AGENCY: Federal Highway Administration (FHWA), DOT.

ACTION: Notice.

SUMMARY: The purpose of this notice is to publish changes in the residential moving expense and dislocation allowance schedule for the States and Territories of Alabama, American Samoa, California, Colorado, Florida, Guam, Hawaii, Idaho, Illinois, Iowa, Kansas, Kentucky, Michigan, Minnesota, Missouri, Nebraska, New Hampshire, New Jersey, New Mexico, New York, North Carolina, North Dakota, North Mariana Islands, Ohio, Oklahoma, Oregon, South Carolina, South Dakota, Tennessee, Texas, Vermont, West Virginia, and Wyoming as provided for by Section 202(b) of the Uniform Relocation Assistance and Real Property Acquisition Policies Act of 1970. The Uniform Act applies to all programs or projects undertaken by Federal agencies or with Federal financial assistance that cause the displacement of any person.

DATE: The provisions of this notice are effective September 27, 2001, or on such earlier date as an agency elects to begin operating under this schedule.

FOR FURTHER INFORMATION CONTACT: Ronald E. Fannin, Office of Real Estate Services, (202) 366-2042, email address: ronald.fannin@fhwa.dot.gov; or Reid Alsop, Office of the Chief Counsel, (202) 366-2043, Federal Highway Administration, 400 Seventh Street, SW., Washington, DC 20590. Office hours are from 7:45 a.m. to 4:15 p. m., e.t., Monday through Friday, except Federal holidays.

SUPPLEMENTARY INFORMATION:

Electronic Access

An electronic copy of this document may be downloaded by using a computer, modem and suitable communications software from the Government Printing Office's Electronic Bulletin Board Services at (202) 512-1661. Internet users may reach the Office of the Federal Register's home page at: http://www.nara.gov/fedreg and the Government Printing Office's database at: http://www.access.gpo.gov.

Background

The Uniform Relocation Assistance and Real Property Acquistion Policies Act of 1970, as amended, 42 U.S.C. 4601-4655, established a program, which includes the payment of moving and related expenses, to assist persons who move because of Federal or federally assisted projects. The FHWA is the lead agency for implementing the provisions of the Uniform Act, and has issued government-wide implementing regulations at 49 CFR part 24. The government-wide regulations also apply to other agencies within the U.S. DOT that are covered by the Uniform Act.

The following 17 Federal departments and agencies have, by cross-reference, adopted the government-wide regulations:

Department of Agriculture

Department of Commerce

Department of Defense

Department of Education

Department of Energy

Environmental Protection Agency

Federal Emergency Management Agency

General Services Administration

Department of Health and Human Services

Department of Housing and Urban Development

Department of the Interior

Department of Justice

Department of Labor

Department of Veterans Affairs

National Aeronautics and Space Administration

Pennsylvania Avenue Development Corporation

Tennessee Valley Authority

Section 202(b) of the Uniform Act provides that as an alternative to being paid for actual moving and related expenses, a displaced individual or family may elect payment for moving expenses on the basis of a moving expense schedule established by the head of the lead agency. The government-wide regulations at 49 CFR 24.302 provide that the FHWA will develop, approve, maintain and update this schedule, as appropriate.

The purpose of this notice is to update the schedule published on December 12, 1996 (61 FR 65425). The schedule is being updated to reflect the increased costs associated with moving personal property and is developed from data provided by State highway agencies. This update increases the schedule amounts in the States and Territories of Alabama, American Samoa, California, Colorado, Florida, Guam, Hawaii, Idaho, Illinois, Iowa, Kansas, Kentucky, Michigan, Minnesota, Missouri, Nebraska, New Hampshire, New Jersey, New Mexico, New York, North Carolina, North Dakota, North Mariana Islands, Ohio, Oklahoma, Oregon, South Carolina, South Dakota, Tennessee, Texas, Vermont, West Virginia, and Wyoming. The following exceptions and limitations apply to this schedule:

1. The expense and dislocation allowance provided to a person who is an occupant of a dormitory style room shared by two or more other unrelated persons, and whose residential move is performed by an agency at no cost to the person, is limited to $50.00. (Several States have requested that in such a case the allowance be increased to $100.00. The $50.00 limit cannot be revised or eliminated by this notice because it is established by regulation (49 CFR 24.302). However, we note that State agencies may request a waiver of the $50.00 limit on a case-by-case basis pursuant to 49 CFR 24.7.)

2. An occupant will be paid on an actual cost basis for moving his or her mobile home from the displacement site. In addition, a reasonable payment to the occupant for packing and securing property for the move may be paid at the agency's discretion.

3. An occupant who moves from a mobile home may be paid for the removal of personal property from the mobile home in accordance with the moving and dislocation allowance payment schedule.

The schedule continues to be based on the “number of rooms of furniture” owned by a displaced individual or family and was developed from data provided by State highway agencies. In the interest of fairness and accuracy, and to encourage the use of the schedule (and thereby simplify the computation and payment of moving expenses), an agency should increase the room count for the purpose of applying the schedule if the amount of possessions in a single room or space actually constitutes more than the normal contents of one room of furniture or other personal property. For example, a basement may count as two rooms if the equivalent of two rooms worth of possessions are located in the basement. In addition, an agency may elect to pay for items stored outside the dwelling unit by adding the appropriate number of rooms.

Authority: 42 U.S.C. 4622(b) and 4633(b); 49 CFR 1.48 and 24.302.

Issued on: August 22, 2001.
Vincent F. Schimmoller,
Deputy Executive Director.

Uniform Relocation Assistance and Real Property Acquisition Policies Act—Residential Moving Expenses and Dislocation allowance Payment Schedule
State | Occupant owns furniture (1) and (2): Number of rooms of funiture: 1 room | Occupant owns furniture (1) and (2): Number of rooms of funiture: 2 rooms | Occupant owns furniture (1) and (2): Number of rooms of funiture: 3 rooms | Occupant owns furniture (1) and (2): Number of rooms of funiture: 4 rooms | Occupant owns furniture (1) and (2): Number of rooms of funiture: 5 rooms | Occupant owns furniture (1) and (2): Number of rooms of funiture: 6 rooms | Occupant owns furniture (1) and (2): Number of rooms of funiture: 7 rooms | Occupant owns furniture (1) and (2): Number of rooms of funiture: 8 rooms | Occupant owns furniture (1) and (2): Each addit'l room | Occupant does not own furniture (3): 1 room not furn. | Occupant does not own furniture (3): Addit'l room
Alabama | 400 | 525 | 650 | 775 | 900 | 1025 | 1150 | 1275 | 125 | 300 | 50
Alaska | 525 | 750 | 975 | 1200 | 1400 | 1575 | 1750 | 1925 | 150 | 350 | 50
American Samoa | 282 | 395 | 508 | 621 | 706 | 790 | 875 | 960 | 85 | 226 | 28
Arizona | 500 | 600 | 700 | 800 | 900 | 1000 | 1100 | 1220 | 100 | 300 | 50
Arkansas | 250 | 350 | 450 | 550 | 625 | 700 | 775 | 850 | 75 | 200 | 25
California | 575 | 750 | 925 | 1100 | 1325 | 1550 | 1775 | 2000 | 200 | 375 | 60
Colorado | 400 | 550 | 700 | 850 | 1000 | 1150 | 1300 | 1450 | 150 | 300 | 50
Connecticut | 250 | 400 | 550 | 650 | 750 | 850 | 950 | 1050 | 100 | 225 | 35
Delaware | 250 | 400 | 550 | 650 | 750 | 850 | 950 | 1050 | 100 | 225 | 35
DC | 250 | 400 | 550 | 650 | 750 | 850 | 950 | 1050 | 100 | 225 | 35
Florida | 500 | 650 | 825 | 1000 | 1150 | 1300 | 1450 | 1600 | 150 | 400 | 75
Georgia | 450 | 650 | 850 | 1000 | 1220 | 1350 | 1500 | 1600 | 125 | 250 | 35
Guam | 282 | 395 | 508 | 621 | 706 | 790 | 875 | 960 | 85 | 226 | 28
Hawaii | 550 | 900 | 1250 | 1550 | 1850 | 2100 | 2350 | 2600 | 200 | 300 | 100
Idaho | 400 | 550 | 700 | 850 | 950 | 1050 | 1150 | 1250 | 100 | 300 | 50
Illinois | 400 | 550 | 700 | 800 | 900 | 1000 | 1100 | 1220 | 100 | 325 | 35
Indiana | 250 | 400 | 550 | 650 | 750 | 850 | 950 | 1050 | 100 | 225 | 35
Iowa | 550 | 700 | 800 | 900 | 1000 | 1100 | 1220 | 1300 | 125 | 250 | 25
Kansas | 300 | 500 | 700 | 850 | 900 | 1000 | 1100 | 1220 | 150 | 250 | 50
Kentucky | 450 | 620 | 790 | 960 | 1130 | 1300 | 1470 | 1640 | 170 | 350 | 50
Louisiana | 250 | 350 | 450 | 550 | 625 | 700 | 775 | 850 | 75 | 200 | 25
Maine | 350 | 450 | 550 | 650 | 725 | 800 | 875 | 950 | 75 | 200 | 25
Maryland | 350 | 500 | 650 | 800 | 925 | 1050 | 1175 | 1300 | 100 | 225 | 35
Massachusetts | 250 | 400 | 550 | 650 | 750 | 850 | 950 | 1050 | 100 | 225 | 35
Michigan | 425 | 625 | 825 | 900 | 1025 | 1150 | 1300 | 1400 | 200 | 375 | 100
Minnesota | 400 | 550 | 700 | 850 | 1000 | 1150 | 1300 | 1400 | 100 | 275 | 50
Mississippi | 400 | 500 | 600 | 700 | 800 | 900 | 1000 | 1100 | 100 | 300 | 50
Missouri | 500 | 600 | 700 | 800 | 900 | 1000 | 1100 | 1220 | 100 | 300 | 50
Montana | 325 | 450 | 575 | 725 | 825 | 900 | 1000 | 1100 | 100 | 250 | 35
Nebraska | 345 | 485 | 620 | 760 | 865 | 965 | 1070 | 1175 | 105 | 275 | 35
Nevada | 360 | 540 | 720 | 900 | 1080 | 1260 | 1440 | 1620 | 180 | 300 | 60
New Hampshire | 450 | 600 | 750 | 900 | 1050 | 1220 | 1350 | 1500 | 150 | 200 | 150
New Jersey | 350 | 500 | 700 | 850 | 1000 | 1150 | 1250 | 1400 | 250 | 225 | 35
New Mexico | 400 | 650 | 880 | 1040 | 1220 | 1360 | 1520 | 1680 | 160 | 360 | 55
New York | 400 | 550 | 700 | 850 | 1000 | 1150 | 1300 | 1450 | 150 | 300 | 100
North Carolina | 350 | 500 | 650 | 750 | 850 | 950 | 1050 | 1150 | 150 | 250 | 50
North Dakota | 350 | 500 | 650 | 775 | 900 | 1025 | 1100 | 1225 | 125 | 300 | 45
N. Mariana Is | 282 | 395 | 508 | 621 | 706 | 790 | 875 | 960 | 85 | 226 | 28
Ohio | 400 | 600 | 800 | 950 | 1100 | 1250 | 1400 | 1550 | 150 | 250 | 50
Oklahoma | 450 | 600 | 750 | 900 | 1025 | 1150 | 1275 | 1400 | 100 | 300 | 50
Oregon | 350 | 500 | 700 | 900 | 1075 | 1250 | 1425 | 1600 | 175 | 300 | 50
Pennsylvania | 250 | 400 | 550 | 650 | 750 | 850 | 950 | 1050 | 100 | 225 | 35
Puerto Rico | 250 | 350 | 450 | 550 | 625 | 700 | 775 | 850 | 75 | 200 | 25
Rhode Island | 400 | 500 | 600 | 700 | 800 | 900 | 1000 | 1100 | 100 | 300 | 25
South Carolina | 550 | 625 | 850 | 1000 | 1220 | 1350 | 1475 | 1650 | 150 | 400 | 50
South Dakota | 350 | 500 | 650 | 800 | 900 | 1220 | 1400 | 1600 | 200 | 300 | 40
Tennessee | 450 | 600 | 750 | 900 | 1050 | 1220 | 1350 | 1500 | 150 | 300 | 50
Texas | 350 | 500 | 650 | 800 | 950 | 1050 | 1150 | 1250 | 100 | 300 | 50
Utah | 250 | 350 | 450 | 550 | 625 | 700 | 775 | 850 | 75 | 200 | 25
Vermont | 350 | 500 | 650 | 800 | 950 | 1050 | 1150 | 1250 | 100 | 300 | 50
Virgin Islands | 250 | 350 | 450 | 550 | 625 | 700 | 775 | 850 | 75 | 200 | 25
Virginia | 300 | 500 | 600 | 700 | 800 | 900 | 1000 | 1100 | 100 | 225 | 35
Washington | 450 | 600 | 750 | 900 | 1050 | 1220 | 1350 | 1500 | 150 | 300 | 50
West Virginia | 500 | 650 | 775 | 900 | 1075 | 1225 | 1350 | 1500 | 150 | 225 | 35
Wisconsin | 350 | 500 | 650 | 750 | 850 | 950 | 1050 | 1150 | 125 | 325 | 60
Wyoming | 300 | 400 | 500 | 600 | 700 | 800 | 900 | 1000 | 100 | 200 | 35
Exceptions: See exceptions and limitations Paragraphs 1-3 on page 4.

[FR Doc. 01-21723 Filed 8-27-01; 8:45 am]

BILLING CODE 4910-22-P